DEPARTMENT OF ENERGY

Federal Energy Regulatory Commission

Combined Notice of Filings # 1

September 26, 2007.

Take notice that the Commission received the following exempt wholesale generator filings:

Docket Numbers: EG07-87-000.

Applicants: Tatanka Wind Power, LLC.

Description: Exempt Wholesale Generator Notice of Self Certification of Tatanka Wind Power, LLC.

Filed Date: 09/25/2007.

Accession Number: 20070925-5046.

Comment Date: 5 p.m. Eastern Time on Tuesday, October 16, 2007.

Take notice that the Commission received the following electric rate filings:

Docket Numbers: ER98-1150-010.

Applicants: Tucson Electric Power Company.

Description: Tucson Electric Company and UNS Electric, Inc submits an amended tariff sheet impacted by the supplement which is a new tariff sheet—Original Sheet 3 under ER98-1150.

Filed Date: 09/24/2007.

Accession Number: 20070924-0281.

Comment Date: 5 p.m. Eastern Time on Wednesday, October 3, 2007.

Docket Numbers: ER98-6-010; ER99-2387-003; ER96-2585-005; ER02-1470-003; ER02-1573-003; ER05-1249-003.

Applicants: New England Power Service Company; KeySpan Ravenswood, Inc.; Niagara Mohawk Power Corporation; KeySpan-Glenwood Energy Center, LLC; KeySpan-Port Jefferson Energy Center, LLC; Granite State Electric Company; National Grid plc and Keyspan Corporation.

Description: National Grid USA submits a Notice of Change in Status for Niagara Mohawk Power Corp.

Filed Date: 09/21/2007.

Accession Number: 20070925-0198.

Comment Date: 5 p.m. Eastern Time on Friday, October 12, 2007.

Docket Numbers: ER99-3077-005.

Applicants: Colorado Power Partners.

Description: Colorado Power Partners submits Substitute Original Sheet 2 to its 8/9/07 filing of a notice of change in status with a revised tariff designated as FERC Electric Tariff, First Revised Volume 1.

Filed Date: 09/21/2007.

Accession Number: 20070925-0187.

Comment Date: 5 p.m. Eastern Time on Friday, October 12, 2007.

Docket Numbers: ER99-3197-005.

Applicants: BIV Generation Company, LLC.

Description: BIV Generation Co, LLC submits Substitute Original Sheet 2 to its 8/9/07 filing of a notice of change in status with a revised tariff designated as FERC Electric Tariff, First Revised Volume 1.

Filed Date: 09/21/2007.

Accession Number: 20070925-0186.

Comment Date: 5 p.m. Eastern Time on Friday, October 12, 2007.

Docket Numbers: ER01-751-009.

Applicants: Mountain View Power Partners, LLC.

Description: Mountain View Power Partners, LLC submits Substitute Original Sheet 1 et al to its 8/9/07 filing of a notice of change in status with a revised tariff designated as FERC Electric Tariff, First Revised Volume 1.

Filed Date: 09/21/2007.

Accession Number: 20070925-0189.

Comment Date: 5 p.m. Eastern Time on Friday, October 12, 2007.

Docket Numbers: ER03-563-063; EL04-102-018.

Applicants: Devon Power, LLC.

Description: Devon Power, LLC, et al. submit an Eleventh Compliance Report of ISO New England, Inc.

Filed Date: 09/24/2007.

Accession Number: 20070924-5041.

Comment Date: 5 p.m. Eastern Time on Monday, October 15, 2007.

Docket Numbers: ER04-157-023; ER04-714-013; EL05-89-003.

Applicants: Central Vermont Public Service Corporation.

Description: Central Vermont Public Service Corporation submits its refund report in compliance with Commission's Opinion 489 Order as revised on 7/26/07.

Filed Date: 09/20/2007.

Accession Number: 20070924-0317.

Comment Date: 5 p.m. Eastern Time on Thursday, October 11, 2007.

Docket Numbers: ER07-282-002.

Applicants: Southwest Power Pool, Inc.

Description: Southwest Power Pool, Inc submits Exhibit I to correct the 6/27/07 filing of the Firm Point-to-Point Transmission Service with Kansas Municipal Energy Agency.

Filed Date: 09/12/2007.

Accession Number: 20070914-0121.

Comment Date: 5 p.m. Eastern Time on Wednesday, October 03, 2007.

Docket Numbers: ER07-1094-001.

Applicants: Niagara Mohawk Power Corporation.

Description: Niagara Mohawk Power Corp dba National Grid submits information in response to FERC's 8/21/07 letter.

Filed Date: 09/20/2007.

Accession Number: 20070924-0307.

Comment Date: 5 p.m. Eastern Time on Thursday, October 11, 2007.

Docket Numbers: ER07-1096-001.

Applicants: Niagara Mohawk Power Corporation.

Description: Niagara Mohawk Power Corp dba National Grid submits information in response to FERC's 8/21/07 letter.

Filed Date: 09/20/2007.

Accession Number: 20070924-0306.

Comment Date: 5 p.m. Eastern Time on Thursday, October 11, 2007.

Docket Numbers: ER07-1103-001.

Applicants: Niagara Mohawk Power Corporation.

Description: Niagara Mohawk Power Corporation dba National Grid submits additional information to FERC's letter dated 8/21/07.

Filed Date: 09/20/2007.

Accession Number: 20070924-0330.

Comment Date: 5 p.m. Eastern Time on Thursday, October 11, 2007.

Docket Numbers: ER07-1125-001.

Applicants: Niagara Mohawk Power Corporation.

Description: Niagara Mohawk Power Corp dba National Grid submits information in response to FERC's 8/21/07 letter.

Filed Date: 09/20/2007.

Accession Number: 20070924-0308.

Comment Date: 5 p.m. Eastern Time on Thursday, October 11, 2007.

Docket Numbers: ER07-1187-001.

Applicants: Louisville Gas & Electric Company.

Description: Louisville Gas & Electric Company, et al. submits Exhibit A—First Amended & Restated Service Agreement under the Tariff for Cost-Based Sales of Capacity & Energy between LG&E/KU & Illinois Municipal Electric Agency.

Filed Date: 09/24/2007.

Accession Number: 20070926-0103.

Comment Date: 5 p.m. Eastern Time on Monday, October 15, 2007.

Docket Numbers: ER07-1238-001.

Applicants: E. ON U.S., LLC.

Description: E. ON US, LLC, et al. requests leave to amend its 8/3/07 filing by withdrawing the Letter Agreement designated as Original Sheet 570a to the LG&E/KU OATT.

Filed Date: 09/21/2007.

Accession Number: 20070924-0309.

Comment Date: 5 p.m. Eastern Time on Friday, October 12, 2007.

Docket Numbers: ER07-1249-001.

Applicants: Lockport Energy Associates, LP.

Description: Lockport Energy Associates, LP submits FERC Electric Tariff, First Revised Volume 1 and revisions to its proposed market-based rate tariff filed on 8/6/07 pursuant to the requirements of Order 697.

Filed Date: 09/24/2007.

Accession Number: 20070925-0184.

Comment Date: 5 p.m. Eastern Time on Monday, October 15, 2007.

Docket Numbers: ER07-1258-001.

Applicants: Rocky Mountain Power, LLC.

Description: Rocky Mountain Power, LLC submits Substitute Original Sheet 2 to its 8/9/07 filing of a notice of succession with a revised tariff designated as FERC Electric Tariff, First Revised Volume 1.

Filed Date: 09/21/2007.

Accession Number: 20070925-0188.

Comment Date: 5 p.m. Eastern Time on Friday, October 12, 2007.

Docket Numbers: ER07-1259-001.

Applicants: San Joaquin Cogen, LLC.

Description: San Joaquin Cogen, LLC submits Substitute Original Sheet 1 et al to its 8/9/07 filing of a notice of succession with a revised tariff designated as FERC Electric Tariff, Original Volume 1.

Filed Date: 09/21/2007.

Accession Number: 20070925-0190.

Comment Date: 5 p.m. Eastern Time on Friday, October 12, 2007.

Docket Numbers: ER07-1269-001.

Applicants: PacifiCorp.

Description: PacifiCorp submits updated tariff sheets and supporting calculation charts that reflect the use of the correct figure.

Filed Date: 09/24/2007.

Accession Number: 20070926-0101.

Comment Date: 5 p.m. Eastern Time on Monday, October 15, 2007.

Docket Numbers: ER07-1372-001.

Applicants: Midwest Independent Transmission System.

Description: Midwest Independent Transmission System Operator, Inc submits proposed amendments to the 9/14/07 filing in order to correct minor typographical errors and inadvertently omitted language in certain definitions & EMT sections.

Filed Date: 09/19/2007.

Accession Number: 20070925-0180.

Comment Date: 5 p.m. Eastern Time on Wednesday, October 10, 2007.

Docket Numbers: ER07-1388-000.

Applicants: Midwest Independent Transmission System Operator, Inc.

Description: Midwest Independent Transmission System Operator, Inc. submits proposed amendments to clarifiy & correct the recently submitted 6/18/07 compliance revisions to the Emergency Markets Tarrif re the ARR, etc.

Filed Date: 09/12/2007.

Accession Number: 20070913-0083.

Comment Date: 5 p.m. Eastern Time on Wednesday, October 03, 2007.

Docket Numbers: ER07-1391-000.

Applicants: Niagara Mohawk Power Corporation.

Description: Niagara Mohawk Power Corp dba National Grid submits a Notice of Termination of the First Amended and Restated Termination Agreement with City of Jamestown Board of Public Utilities.

Filed Date: 09/21/2007.

Accession Number: 20070924-0310.

Comment Date: 5 p.m. Eastern Time on Friday, October 12, 2007.

Docket Numbers: ER07-1392-000.

Applicants: PacifiCorp.

Description: PacifiCorp submits an executed service agreements for Firm Point-to-Point Transmission Service with Powerex Corp, etc.

Filed Date: 09/21/2007.

Accession Number: 20070925-0183.

Comment Date: 5 p.m. Eastern Time on Friday, October 12, 2007.

Docket Numbers: ER07-1393-000.

Applicants: American Electric Power Service Corp.

Description: American Electric Power Service Corporation submits its proposed revisions to the Station Agreement dated 1/1/68 as amended among Ohio Power Company, et al.

Filed Date: 09/21/2007.

Accession Number: 20070925-0185.

Comment Date: 5 p.m. Eastern Time on Friday, October 12, 2007.

Docket Numbers: ER07-1394-000.

Applicants: PJM Interconnection, LLC.

Description: PJM Interconnection, LLC submits an executed interconnection service agreement with Ameresco Stafford, LLC and Virginia Electric and Power Company.

Filed Date: 09/21/2007.

Accession Number: 20070925-0182.

Comment Date: 5 p.m. Eastern Time on Friday, October 12, 2007.

Docket Numbers: ER07-1395-000.

Applicants: PJM Interconnection, LLC.

Description: PJM Interconnection LLC submits a revised interconnection service agreement among PJM, PSEG Nuclear LLC, et al.

Filed Date: 09/21/2007.

Accession Number: 20070925-0181.

Comment Date: 5 p.m. Eastern Time on Friday, October 12, 2007.

Docket Numbers: ER07-1396-000.

Applicants: American Electric Power Service Corp.

Description: American Electric Power Service Corporation agent for Ohio Power Company et al submits and requests acceptance of Exhibit A-10 (Repair Agreement) Facilities Construction, Operation, Maintenance & Repair Agreement.

Filed Date: 09/24/2007.

Accession Number: 20070926-0104.

Comment Date: 5 p.m. Eastern Time on Monday, October 15, 2007.

Docket Numbers: ER07-1397-000.

Applicants: Southern California Edison Company.

Description: Southern California Edison Co. submits Service Agreement for Wholesale Distribution Service & the Ehrenberg Wholesale Distribution Load Interconnection Facilities Agreement with Arizona Public Service Co.

Filed Date: 09/25/2007.

Accession Number: 20070926-0105.

Comment Date: 5 p.m. Eastern Time on Tuesday, October 16, 2007.

Docket Numbers: ER07-1398-000.

Applicants: Southwest Reserve Sharing Group.

Description: Tucson Electric Power Company on behalf of members of Southwest Reserve Group submits an amendment to the SRG Participation Agreement reflecting the termination of the membership of PPL Enregy Plus, LLC.

Filed Date: 09/25/2007.

Accession Number: 20070926-0102.

Comment Date: 5 p.m. Eastern Time on Tuesday, October 16, 2007.

Take notice that the Commission received the following electric securities filings:

Docket Numbers: ES07-26-003.

Applicants: Entergy Gulf States, Inc.

Description: Entergy Services, Inc and Entergy Gulf States, Inc et al submit additional information with respect to their request for authorization re proposed jurisdictional separation plan.

Filed Date: 09/24/2007.

Accession Number: 20070926-0106.

Comment Date: 5 p.m. Eastern Time on Thursday, October 4, 2007.

Docket Numbers: ES07-64-000.

Applicants: Commonwealth Edison Company.

Description: Application of Commonwealth Edison Company Under Section 204 of the Federal Power Act for Authorization of the Issuance of Securities.

Filed Date: 09/24/2007.

Accession Number: 20070924-5045.

Comment Date: 5 p.m. Eastern Time on Monday, October 15, 2007.

Docket Numbers: ES07-65-000.

Applicants: PECO Energy Company.

Description: Application of PECO Energy Company Under Section 204 of the Federal Power Act for Authorization of the Issuance of Securities.

Filed Date: 09/24/2007.

Accession Number: 20070924-5049.

Comment Date: 5 p.m. Eastern Time on Monday, October 15, 2007.

Take notice that the Commission received the following open access transmission tariff filings:

Docket Numbers: OA07-32-001; OA07-17-001.

Applicants: Entergy Services Inc.

Description: Entergy Operating Companies submits corrected Second Substitute First Revised Sheet 142 to its Open Access Transmission Tariff, adopting the terms and conditions of Order 890 pro forma Schedule 4 etc under ER07-17, et al.

Filed Date: 09/13/2007.

Accession Number: 20070917-0130.

Comment Date: 5 p.m. Eastern Time on Thursday, October 4, 2007.

Docket Numbers: OA07-60-001.

Applicants: Idaho Power Company.

Description: Substitute Tariff Sheets to Order No. 890 OATT of Idaho Power Company under OA07-60.

Filed Date: 09/18/2007.

Accession Number: 20070917-5093.

Comment Date: 5 p.m. Eastern Time on Tuesday, October 9, 2007.

Take notice that the Commission received the following PURPA 210(m)(3) filings:

Docket Numbers: QM07-5-000.

Applicants: Xcel Energy Services Inc. and American E.

Description: Southwestern Public Service Co, et al. submits an application to terminate the requirement to enter into new contracts or obligations with qualifying facilities under QM07-5.

Filed Date: 09/25/2007.

Accession Number: 20070926-0118.

Comment Date: 5 p.m. Eastern Time on Tuesday, October 23, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail: FERCOnlineSupport@ferc.gov. or call (866) 208-3676 (toll free). For TTY, call (202) 502-8659.

Nathaniel J. Davis, Sr.,
Acting Deputy Director.

[FR Doc. E7-19586 Filed 10-3-07; 8:45 am]

BILLING CODE 6717-01-P